DEPARTMENT OF TRANSPORTATION

National Highway Traffic Safety Administration

49 CFR Parts 571, 575, and 582

[Docket No. NHTSA-2005-21564; Notice 2]

Vehicle Safety Hotline; Child Restraint Systems; Technical Amendment

AGENCY: National Highway Traffic Safety Administration (NHTSA), Department of Transportation (DOT).

ACTION: Technical amendment.

SUMMARY: On June 21, 2005, NHTSA published a final rule that made technical amendments to several regulations that reference NHTSA's Vehicle Safety Hotline telephone number. The rule updated the Hotline telephone number and added our Web address to the information that NHTSA requires manufacturers and dealers to provide consumers. The effective date for those amendments to Part 571, Federal motor vehicle safety standards, Part 575, Consumer information; and Part 582, Insurance cost information regulation, is June 21, 2006. This document withdraws the June 21, 2005 amendments to part 571, in response to a request from General Motors and other motor vehicle manufacturers to have the effective date coincide with the traditional September 1 vehicle model year changeover date, this document changes the effective date of the amendments to September 1, 2006.

DATES: This rule withdraws the amendments published at 70 FR 35556, June 21, 2005 to part 571. This rule delays the effective date of amendments to 49 CFR parts 575 and 582 published on June 21, 2005 from June 21, 2006 until September 1, 2006. The amendments to § 571.213 in this document are effective September 1, 2006. Voluntary compliance is permitted before that time.

FOR FURTHER INFORMATION CONTACT: Deirdre Fujita, NHTSA Office of Chief Counsel, 400 Seventh Street, SW., Washington, DC 20590 (telephone 202-366-2992; fax 202-366-3820).

SUPPLEMENTARY INFORMATION: In several regulations, NHTSA specifies that vehicle manufacturers, child restraint manufacturers or automobile dealers must provide the telephone number for our Vehicle Safety Hotline so that consumers concerned about safety recalls or potential defects could contact this agency. Because that telephone number has been updated to a toll-free number that can be used nationwide and to include a TTY number, on June 21, 2005, NHTSA amended the relevant sections of the CFR to use the new telephone number and to add our Web address so that consumers can access safety recall and defect information online (70 FR 35556; Docket 21564). We also updated text in the Part 582 (“Insurance Cost Information Regulation”) information form to reflect that our current New Car Assessment Program has information on side crash protection and relative rollover resistance. The effective date of the amended requirements pertaining to Parts 571, 575 and 582 was June 21, 2006.¹

¹ The final rule also made similar changes to Part 577, “Defect and Noncompliance Notification,” section 577.5(g)(1)(vii). That section requires manufacturers to provide the agency's address and telephone number in notifications to the public of recall campaigns. Because that change could be made effective immediately without imposing any substantive burdens, the effective date for that change was July 21, 2005. Today's document does not affect the effective date for that Part 577 amendment.

Vehicle Model Year Changeover

We received a request from General Motors (GM) asking that we change the effective date for certain aspects of the final rule, from June 21, 2006 to September 1, 2006 to coincide with traditional vehicle model year changeover (NHTSA-21564-2). Part 575 requires vehicle manufacturers to provide to first purchasers, among other things, information in the owner's manual on how they may contact NHTSA with concerns about potential safety-related defects (49 CFR 575.6(a)(2)).² GM explained that the vast majority of the owner's manuals would be printed with the information by June 21, 2006, but that there are certain low-volume vehicles that have owner's manuals that are printed in a single edition for which the entire quantity has already been printed. In addition, the petitioner stated, even for vehicles whose owners' manuals are typically printed in two editions during a model year, there might not be a second edition if original volume productions are not met. GM was concerned about the burden associated with producing and installing owner's manual supplements in 2006 model year vehicles produced after June 21, 2006 that have owner's manuals printed before that date. GM believed that our changing the effective date to September 1, 2006, while continuing to allow early compliance with the final rule, would eliminate the burden without adversely affecting the public's ability to contact the agency. The Alliance of Automobile Manufacturers (Alliance) filed a letter supporting GM's petition (NHTSA-21564-3). The Alliance urged NHTSA to allow manufacturers the 72 additional days to meet the amended requirements of Part 575.

² If there is no owner's manual, the information is to be provided on a one-page document.

We have examined the issues raised in the petition and have decided to delay the effective date of the technical amendments to parts 575 and 582 until September 1, 2006. We agree with the petitioner that a September 1, 2006 effective date will not adversely affect the public's ability to contact the agency. The vast majority of vehicles will have had their owner's manuals updated with the telephone numbers by this June 21, and this delay will only affect a number of smaller vehicle lines. Further, the former Auto Safety Hotline number (1-800-424-9393) can still be used to contact the agency. Child restraint manufacturers and automobile dealers will also be provided until September 1, 2006 to reference the updated telephone number and agency web address in the materials they produce. For those that use the September 1 traditional vehicle model year changeover date to revise their materials, this amendment provides flexibility in meeting the requirements.

The amendment was not intended to impose or relax any substantive requirements or burdens on anyone. Not using a September 1, 2006, effective date to coincide with the traditional vehicle model year changeover was an oversight of the June 21, 2005 final rule which today's technical amendment corrects.

Child Restraint Labeling

This document also makes a technical amendment to the regulatory text of the June 21, 2005 final rule pertaining to Federal Motor Vehicle Safety Standard (FMVSS) No. 213, “Child restraint systems.” The regulatory text of the June 21, 2005 is amended to reflect labeling and other changes to FMVSS No. 213 adopted by a September 9, 2005 final rule that permitted information regarding online product registration to be included in child restraint product information, including child restraint labels and owner registration forms (70 FR 53569; Docket 22324). This technical amendment makes consistent the regulatory texts of the June 21, 2005 and September 2, 2005 final rules amending FMVSS No. 213.³

³ The September 2, 2005 final rule noted that the June 21, 2005 final rule had changed the Hotline number required to be included on the labels of child restraints and in printed instructions (70 FR at 53573).

List of Subjects in 49 CFR Part 571

Motor vehicle safety, Reporting and recordkeeping requirements, Tires.

PART 571—FEDERAL MOTOR VEHICLE SAFETY STANDARDS

In consideration of the foregoing, NHTSA is withdrawing the amendments to part 571 published at 70 FR 35556, June 21, 2005. The effective date of the amendments published at 70 FR 35556, June 21, 2005 to parts 575 and 582 is delayed until September 1, 2006. In further consideration of the foregoing NHTSA is amending 49 CFR part 571 as follows:

1. The authority citation for Part 571 continues to read as follows:

Authority: 49 U.S.C. 322, 30111, 30115, 30117, and 30166; delegation of authority at 49 CFR 1.50.

2. Section 571.213 is amended to revise paragraph (m) of S5.5.2, S5.5.5 (k), S5.6.1.7, and S5.6.2.2 to read as follows:

§ 571.213 Standard No. 213; Child restraint systems.

* * * * *

S5.5.2 * * *

(m) One of the following statements, inserting an address and a U.S. telephone number. If a manufacturer opts to provide a Web site on the registration card as permitted in Figure 9a of this section, the manufacturer must include the statement in part (ii):

(i) “Child restraints could be recalled for safety reasons. You must register this restraint to be reached in a recall. Send your name, address, e-mail address if available (preceding four words are optional) and the restraint's model number and manufacturing date to (insert address) or call (insert a U.S. telephone number). For recall information, call the U.S. Government's Vehicle Safety Hotline at 1-888-327-4236 (TTY: 1-800-424-9153), or go to http://www.NHTSA.gov.”

(ii) “Child restraints could be recalled for safety reasons. You must register this restraint to be reached in a recall. Send your name, address, e-mail address if available [preceding four words are optional], and the restraint's model number and manufacturing date to (insert address) or call (insert a U.S. telephone number) or register online at (insert Web site for electronic registration form). For recall information, call the U.S. Government's Vehicle Safety Hotline at 1-888-327-4236 (TTY: 1-800-424-9153), or go to http://www.NHTSA.gov.”

* * * * *

S5.5.5 * * *

(k) One of the following statements, inserting an address and a U.S. telephone number. If a manufacturer opts to provide a Web site on the registration card as permitted in Figure 9a of this section, the manufacturer must include the statement in part (ii):

(i) “Child restraints could be recalled for safety reasons. You must register this restraint to be reached in a recall. Send your name, address, e-mail address if available (preceding four words are optional), and the restraint's model number and manufacturing date to (insert address) or call (insert a U.S. telephone number). For recall information, call the U.S. Government's Vehicle Safety Hotline at 1-888-327-4236 (TTY: 1-800-424-9153), or go to http://www.NHTSA.gov.”

(ii) “Child restraints could be recalled for safety reasons. You must register this restraint to be reached in a recall. Send your name, address, e-mail address if available (preceding four words are optional), and the restraint's model number and manufacturing date to (insert address) or call (insert telephone number) or register online at (insert Web site for electronic registration form). For recall information, call the U.S. Government's Vehicle Safety Hotline at 1-888-327-4236 (TTY: 1-800-424-9153), or go to http://www.NHTSA.gov.”

* * * * *

S5.6.1.7 One of the following statements, inserting an address and a U.S. telephone number. If a manufacturer opts to provide a Web site on the registration card as permitted in Figure 9a of this section, the manufacturer must include the statement in part (ii):

(i) “Child restraints could be recalled for safety reasons. You must register this restraint to be reached in a recall. Send your name, address, e-mail address if available (preceding four words are optional), and the restraint's model number and manufacturing date to (insert address) or call (insert a U.S. telephone number). For recall information, call the U.S. Government's Vehicle Safety Hotline at 1-888-327-4236 (TTY: 1-800-424-9153), or go to http://www.NHTSA.gov.”

(ii) “Child restraints could be recalled for safety reasons. You must register this restraint to be reached in a recall. Send your name, address, e-mail address if available (preceding four words are optional), and the restraint's model number and manufacturing date to (insert address) or call (insert telephone number) or register online at (insert Web site for electronic registration form). For recall information, call the U.S. Government's Vehicle Safety Hotline at 1-888-327-4236 (TTY: 1-800-424-9153), or go to http://www.NHTSA.gov.”

* * * * *

S5.6.2.2 The instructions for each built-in child restraint system other than a factory-installed restraint, shall include one of the following statements, inserting an address and a U.S. telephone number. If a manufacturer opts to provide a Web site on the registration card as permitted in Figure 9a of this section, the manufacturer must include the statement in part (ii):

(i) “Child restraints could be recalled for safety reasons. You must register this restraint to be reached in a recall. Send your name, address, e-mail address if available (preceding four words are optional), and the restraint's model number and manufacturing date to (insert address) or call (insert a U.S. telephone number). For recall information, call the U.S. Government's Vehicle Safety Hotline at 1-888-327-4236 (TTY: 1-800-424-9153), or go to http://www.NHTSA.gov.”

(ii) “Child restraints could be recalled for safety reasons. You must register this restraint to be reached in a recall. Send your name, address, e-mail address if available (preceding four words are optional), and the restraint's model number and manufacturing date to (insert address) or call (insert U.S. telephone number) or register online at (insert Web site for electronic registration form). For recall information, call the U.S. Government's Vehicle Safety Hotline at 1-888-327-4236 (TTY: 1-800-424-9153), or go to http://www.NHTSA.gov.”

* * * * *

Issued: June 13, 2006.
Stephen R. Kratzke,
Associate Administrator for Rulemaking.

[FR Doc. E6-9582 Filed 6-20-06; 8:45 am]

BILLING CODE 4910-59-P